DEPARTMENT OF TRANSPORTATION

National Highway Traffic Safety Administration

[Docket No. NHTSA-2014-0090]

Notice of Buy America Waiver

AGENCY: National Highway Traffic Safety Administration (NHTSA), Department of Transportation (DOT).

ACTION: Correction to Notice of Buy America Waiver

SUMMARY: On September 16, 2014, NHTSA published a Notice of Buy America Waiver that provided findings to requests from the Michigan Office of Highway Safety Planning (OHSP) to waive the requirements of Buy America. The Notice stated an effective date of October 16, 2014. However, that date did not correctly reflect NHTSA's intentions for the effective date. Also, the Notice did not accurately cite the appropriate section of the United States Code for motorcyclist safety grant funds, 23 U.S.C. 405(f). This document corrects those errors.

DATES: The effective date of this correction is the date of publication October 6, 2014.

FOR FURTHER INFORMATION CONTACT: For program issues, contact Barbara Sauers, Office of Regional Operations and Program Delivery, NHTSA (phone: 202-366-0144). For legal issues, contact Andrew DiMarsico, Office of Chief Counsel, NHTSA (phone: 202-366-5263). You may send mail to these officials at National Highway Traffic Safety Administration, 1200 New Jersey Avenue SE., Washington, DC 20590.

SUPPLEMENTARY INFORMATION: On September 16, 2014, NHTSA published a Notice of Buy America Waiver that provided findings in regards to five requests from the Michigan Office of Highway Safety Planning (OHSP) to waive the requirements of Buy America. In summary, NHTSA found the following:

• A waiver of the Buy America requirements, 23 U.S.C. 313, was appropriate for OHSP to purchase a portable data projector, wireless remote control presenter, DVDs, high-visibility motorcycle vests and twenty training motorcycles.

• A non-availability waiver of the Buy America requirements was inappropriate for OHSP to lease a copy/printer/fax machine.

Need for Correction

The Notice of Buy America Waiver stated the waiver was effective on October 16, 2014. This date did not correctly state NHTSA's intentions. On September 16, 2014, at 79 FR 55529, NHTSA intended the waiver to be effective on an earlier date in order to allow the grantee an opportunity to purchase the items requested. Also, the Notice did not accurately cite the appropriate section of the United States Code for motorcyclist safety grant funds. The Notice cited to 23 U.S.C. 405(g), but NHTSA intended to cite 23 U.S.C. 405(f) for motorcyclist safety grant funds.

In FR Doc. 2014-0090 appearing on page 55529 of the Federal Register of Tuesday, September 16, 2014, the following corrections are made:

In the DATES section in the left column, revise the paragraph to read as follows:

“The effective date of this waiver is the date of publication.”

In the SUPPLEMENTARY INFORMATION section in the middle column, revise the first and second paragraph to cite the following provision: “23 U.S.C. 405(f).”

Issued in Washington, DC, on September 30, 2014, under authority delegated in 49 CFR part 1.95.
O. Kevin Vincent,
Chief Counsel.

[FR Doc. 2014-23822 Filed 10-3-14; 8:45 am]

BILLING CODE 4910-59-P